DEPARTMENT OF TRANSPORTATION

Federal Aviation Administration

14 CFR Part 39

[Docket No. FAA-2007-26966; Directorate Identifier 99-NE-01-AD]

RIN 2120-AA64

Airworthiness Directives; Rolls-Royce Corporation AE 3007A and AE 3007C Series Turbofan Engines

AGENCY: Federal Aviation Administration (FAA), DOT.

ACTION: Notice of proposed rulemaking (NPRM).

SUMMARY: The FAA proposes to supersede an existing airworthiness directive (AD) for Rolls-Royce Corporation (RRC) AE 3007A and AE 3007C series turbofan engines. That AD currently prohibits any flight following a ground engine start where the engine oil temperature is below 32 °F (0 °C), unless certain preflight operational procedures are followed. This proposed AD would also require those actions, and would also require a terminating action. This proposed AD would supersede the compliance requirements of AD 99-02-51 and all related alternative methods of compliance (AMOCs). This proposed AD results from design improvements to components in the accessory gearbox air turbine starter mounting pad. We are proposing this AD to prevent an in-flight engine shutdown due to loss of engine oil from the starter shaft seal.

DATES: We must receive any comments on this proposed AD by May 29, 2007.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact Rolls-Royce Corporation, P.O. Box 420, Indianapolis, IN 46206; telephone (317) 230-3774; fax (317) 230-8084; e-mail: indy.pubs.services@rolls-royce.com, to get the service information identified in this proposed AD.

FOR FURTHER INFORMATION CONTACT: Kyri Zaroyiannis, Aerospace Engineer, Chicago Aircraft Certification Office, Small Airplane Directorate, FAA, 2300 E. Devon Ave., Des Plaines, IL 60018; telephone (847) 294-7836; fax (847) 294-7834.

SUPPLEMENTARY INFORMATION:

Comments Invited

We invite you to send any written relevant data, views, or arguments regarding this proposal. Send your comments to an address listed under ADDRESSES. Include “Docket No. FAA-2007-26966; Directorate Identifier 99-NE-01-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received and any final disposition in person at the Docket Management Facility between 9 a.m. and 5 p.m., Monday through Friday, except Federal holidays. The Docket Office (telephone (800) 647-5227) is located on the plaza level of the Department of Transportation Nassif Building at the street address stated in ADDRESSES. Comments will be available in the AD docket shortly after the DMS receives them.

Docket Number Change

We are transferring the docket for this proposed AD to the Docket Management System as part of our on-going docket management consolidation efforts. The new Docket No. is FAA-2007-26966. The old Docket No. became the Directorate Identifier, which is 99-NE-01-AD.

Discussion

On March 29, 1999, we issued AD 99-02-51, Amendment 39-11108 (64 FR 16339, April 5, 1999), applicable to RRC AE 3007A and AE 3007C series turbofan engines. That AD prohibits any flight following a ground engine start where the engine oil temperature is below 32 °F (0 °C), unless certain preflight operational procedures are followed to ensure that there is no excessive loss of oil from leakage at the air turbine starter shaft. That action resulted from reports of in-flight engine shutdowns attributed to loss of engine oil from the starter shaft seal.

Since we issued AD 99-02-51, RRC, Cessna Aircraft Company, and Empresa Brasileira de Aeronautica S.A. (EMBRAER) issued Service Bulletins (SBs) that describe a procedure to install a cap on the accessory gearbox starter pad drain fitting to prevent rapid engine oil loss during flight. These SBs were approved in 1999 as AMOCs to the requirements of AD 99-02-51. In September 2001, RRC developed single- and multi-orifice restrictors that were approved for use also as an AMOC that replaced the drain fitting cap in the previous AMOCs. RRC has since improved the design for the multi-orifice restrictor which is also approved as an AMOC. Since we approved these AMOCs, RRC released an improved seal for the accessory gearbox air turbine starter mounting pad. On January 19, 2006, we approved a terminating action AMOC incorporating the improved seal. That AMOC requires no cap or restrictor on the starter drain, but does not require removal of those components either. This proposed AD would mandate the removal of the AMOC configurations incorporating caps or restrictors and the installation of an open drain adapter.

Relevant Service Information

We have reviewed and approved the technical contents of the following RRC SBs:

• SB No. AE 3007A-72-321 AE 3007C-72-250, Revision 2, which describes procedures for installing an improved starter shaft seal.

• SB No. AE 3007C-72-223, Revision 1, and SB No. AE 3007A-72-330, Revision 1, which describe procedures for installing an open starter drain adapter.

• SB No. AE 3007A-72-274, Revision 1, which describes procedures for removing the drain cap or starter drain adapter on AE 3007A series engines.

The SB issue dates do not appear in this proposed AD because we agreed to allow RRC to assign the final rule AD issue date to them, as they want to reference the AD number in the SBs.

FAA's Determination and Requirements of the Proposed AD

We have evaluated all pertinent information and identified an unsafe condition that is likely to exist or develop on other products of this same type design. We are proposing this AD, which would:

• Prohibit before further flight, any flight following a ground engine start where the engine oil temperature is below 32 °F (0 °C), unless certain preflight operational procedures are followed to ensure that there is no excessive loss of oil from leakage at the air turbine starter shaft; and

• Require terminating action to the prohibition requirements of the existing AD, by removing from service certain seal P/Ns from the accessory gearbox air turbine starter mounting pad and installing an improved seal; and

• Require removing certain P/N drain caps, drain adapters, and orifice inserts, and installing an open adapter on the starter pad drain.

The proposed AD would require that you do these actions using the service information described previously.

Costs of Compliance

We estimate that this proposed AD would affect 1,868 RRC AE 3007A and AE 3007C series turbofan engines installed on aircraft of U.S. registry. We also estimate that it would take about 4 work-hours per engine to perform the proposed terminating action, and that the average labor rate is $80 per work-hour. Required parts would cost about $2,917 per engine. Based on these figures, if all engines incorporated the terminating action, we estimate the total cost of the proposed AD to U.S. operators to be $6,046,100.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-11108 (64 FR 16339, April 5, 1999) and by adding a new airworthiness directive to read as follows:

Rolls-Royce Corporation (formerly Allison Engine Company, Inc.): Docket No. FAA-2007-26966; Directorate Identifier 99-NE-01-AD.

Comments Due Date

(a) The Federal Aviation Administration (FAA) must receive comments on this airworthiness directive (AD) action by May 29, 2007.

Affected ADs

(b) This AD supersedes AD 99-02-51, Amendment 39-11108.

Applicability

(c) This AD applies to Rolls-Royce Corporation (RRC) (formerly Allison Engine Company, Inc.) AE 3007A and AE 3007C series turbofan engines. These engines are installed on, but not limited to, Cessna Aircraft Company 750 series, and Empresa Brasileira de Aeronautica S. A. (EMBRAER) EMB-135 and EMB-145 series airplanes.

Unsafe Condition

(d) This AD results from design improvements to components in the accessory gearbox air turbine starter mounting pad. We are issuing this AD to prevent an in-flight engine shutdown due to loss of engine oil from the starter shaft seal.

Compliance

(e) You are responsible for having the actions required by this AD performed within the compliance times specified unless the actions have already been done.

Prohibited Flights

(f) All flights after ground engine starts at engine oil temperatures below 32 °F (0 °C), are prohibited except as follows:

(1) If the engine oil temperature has dropped below 32 °F (0 °C), before flight, perform a high-power leak check on each engine (at least three minutes at takeoff power).

(2) Oil consumption greater than 0.32 quart per hour (303 cc per hour) is not permitted. Instructions for performing the high-power leak check for the AE 3007A series engines can be found in the Rolls-Royce AE 3007A Series Maintenance Manual, TASK 72-00-00-700-801, SUBTASK 72-00-00-790-002. Leak check limits for the AE 3007A series engines can be found in the Rolls-Royce AE 3007A Series Maintenance Manual, TASK 71-00-00-200-801.

(3) Instructions for performing the high-power leak check for the AE 3007C series engines (including leak check limits) can be found in the Rolls-Royce AE 3007C Series Maintenance Manual, TASK 72-00-00-700-801, SUBTASK 72-00-00-790-002.

Terminating Action

(g) No later than September 30, 2009, as terminating action to the requirements in paragraph (f) through (f)(3) of this AD, do the following, as applicable to your engine model and configuration:

(1) Remove seal part number (P/N) 42520-71, 42520-196-X, 99004-1-6, 42520-75, or 42520-167, from the accessory gearbox (AGB) air turbine starter mounting pad.

(2) Install a new seal, P/N AS3209-026, or other serviceable part, to the shaft of the starter mounting pad.

(3) Install a new bearing locknut, P/N 42520-170, or other serviceable part, and an AGB air turbine starter mounting pad mechanical seal, P/N 42520-192, or other serviceable part.

(4) Use paragraphs 2. through 2.G. of the Accomplishment Instructions of RRC Service Bulletin (SB) No. AE 3007A-72-321 / AE 3007C-72-250, Revision 2, to do the removals and installations.

(5) For AE 3007A series engines, remove the drain cap or starter drain adapter. Use paragraphs 2. through 2.C.(4)(c) of the Accomplishment Instructions of RRC SB No. AE 3007A-72-274, Revision 1, to do the removal.

(6) For AE 3007A series engines, install an open starter drain adapter. Use paragraphs 2. through 2.C.(2) of the Accomplishment Instructions of RRC SB No. AE 3007A-72-330, Revision 1, to do the installation.

(7) For AE 3007C series engines, install an open starter drain adapter. Use paragraphs 2. through 2.E.(2) of the Accomplishment Instructions of RRC SB No. AE 3007C-72-223, Revision 1, to do the installation.

Definition

(h) A serviceable part is any FAA-approved part not being removed from service, or not otherwise specifically addressed by this AD action. Serviceable parts may be available from the original equipment manufacturer or through Part Manufacturer Approval sources.

Prohibition of Seals

(i) Once the terminating action in this AD is performed on an engine, seal P/Ns 42520-71, 42520-196-X, 99004-1-6, 42520-75, and 42520-167, are prohibited from being installed on the air starter mounting pad.

Previous Credit

(j) Previous credit is allowed for the terminating action in paragraphs (g)(1) through (g)(7) of this AD, that was done using the Accomplishment Instructions of the SBs listed in the following Table 1, before the effective date of this AD:

Table 1.—SBs Allowing Previous Credit
For AE 3007A Series Engines
(1) Engine—Accessory Drive Gearbox Assembly—New Starter Shaft Seal; RRC SB No. AE 3007A-72-321/AE 3007C-72-250, Revision 1, dated November 7, 2005; and
(2) Engine—Accessory Gearbox Starter Pad Drain—Remove The Drain Cap or Starter Drain Adapter; RRC SB No. AE 3007A-72-274, dated January 19, 2006; and
(3) Engine—Accessory Gearbox Starter Pad Drain—Install the Open Starter Drain Adapter (23083402 or 23077526); RRC SB No. AE 3007A-72-330, dated January 19, 2006.
For AE 3007C Series Engines
(4) Engine—Accessory Drive Gearbox Assembly—New Starter Shaft Seal; RRC SB No. AE 3007A-72-321/AE 3007C-72-250, Revision 1, dated November 7, 2005; and
(5) Engine—Accessory Gearbox Starter Pad Drain—Install the Open Starter Drain Adapter (23077526 or 23083403); RRC SB No. AE 3007C-72-223, dated January 19, 2006.

Alternative Methods of Compliance (AMOC)

(k) The Manager, Chicago Aircraft Certification Office, has the authority to approve AMOCs for this AD if requested using the procedures found in 14 CFR 39.19.

(l) AMOCs approved for AD 99-02-51 are not approved as AMOCs for this AD.

Related Information

(m) Contact Kyri Zaroyiannis, Aerospace Engineer, Chicago Aircraft Certification Office, Small Airplane Directorate, FAA, 2300 E. Devon Ave., Des Plaines, IL 60018; e-mail: kyri.zaroyiannis@faa.gov; telephone (847) 294-7836; fax (847) 294-7834, for more information about this AD.

Issued in Burlington, Massachusetts, on March 23, 2007.
Francis A. Favara,
Manager, Engine and Propeller Directorate, Aircraft Certification Service.

[FR Doc. E7-5775 Filed 3-28-07; 8:45 am]

BILLING CODE 4910-13-P